DEPARTMENT OF TRANSPORTATION

Federal Aviation Administration

14 CFR Part 39

[Docket No. 2001-SW-52-AD]

RIN 2120-AA64

Airworthiness Directives; Eurocopter France Model EC120B Helicopters

AGENCY: Federal Aviation Administration, DOT.

ACTION: Notice of proposed rulemaking (NPRM).

SUMMARY: This document proposes adopting a new airworthiness directive (AD) for Eurocopter France (ECF) Model EC120B helicopters. This proposal would require inspecting the attachment of the bolted assemblies of the cyclic pitch flight control torque tube (torque tube) for an appropriate locking device. If a bolted assembly is single-locked, the proposed AD would require, if necessary, tightening the self-locking nuts at certain intervals and modifying the torque tube after a certain time. This proposal is prompted by the discovery that some of the attachments of the torque tube were fastened with a single-locking device instead of the intended double-locking device. The actions specified by this proposed AD are intended to prevent separation of the cyclic pitch stick yokes from the torque tube, loss of cyclic control, and subsequent loss of control of the helicopter.

DATES: Comments must be received on or before April 15, 2002.

ADDRESSES: Submit comments in triplicate to the Federal Aviation Administration (FAA), Office of the Regional Counsel, Southwest Region, Attention: Rules Docket No. 2001-SW-52-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-52-AD.” The postcard will be date stamped and returned to the commenter.

Availability of NPRMs

Any person may obtain a copy of this NPRM by submitting a request to the FAA, Office of the Regional Counsel, Southwest Region, Attention: Rules Docket No. 2001-SW-52-AD, 2601 Meacham Blvd., Room 663, Fort Worth, Texas 76137.

Discussion

The Direction Generale De L'Aviation Civile (DGAC), the airworthiness authority for France, notified the FAA that an unsafe condition may exist on ECF Model EC120B helicopters. The DGAC advises that the design fails to provide double-locking of the attachment pins of the cyclic pitch stick yokes to the torque tube.

ECF has issued Alert Service Bulletin No. 67A003, dated August 2, 2001 (ASB), which specifies inspecting single-locking devices within 50 hours time-in-service (TIS) and modifying single-locking devices to make them double locking within 500 hours TIS or 24 months, whichever occurs first. The DGAC classified this ASB as mandatory and issued AD 2001-373-008(A), dated August 22, 2001, to ensure the continued airworthiness of these helicopters in France.

This helicopter model is manufactured in France and is type certificated for operation in the United States under the provisions of 14 CFR 21.29 and the applicable bilateral agreement. Pursuant to the applicable bilateral agreement, the DGAC has kept the FAA informed of the situation described above. The FAA has examined the findings of the DGAC, reviewed all available information, and determined that AD action is necessary for products of this type design that are certificated for operation in the United States.

This unsafe condition is likely to exist or develop on other helicopter models of the same type design registered in the United States. Therefore, the proposed AD would require determining whether the attachment of the bolted assembly of the torque tube is a single or double-locking device. If the bolted assembly is single-locked, the proposed AD would require repetitively inspecting and, if necessary, tightening the self-locking nuts to a specified torque. The proposed AD would also require modifying the torque tube to provide double locking for the attachment pins of the cyclic pitch stick yokes to the torque tube after a specified time interval. The actions would be required to be accomplished in accordance with the ASB described previously except for the compliance time allowed before the torque tube modification is required. The DGAC and the manufacturer specify modifying the torque tube within 500 hours time-in-service (TIS) or 24 months, whichever occurs first. However, the FAA has determined that, due to the seriousness of this unsafe condition, the torque tube must be modified within the next 250 hours TIS or 12 months, whichever occurs first.

The FAA estimates that 44 helicopters of U.S. registry would be affected by this proposed AD, that it would take approximately 5 work hours per helicopter to accomplish the proposed actions, and that the average labor rate is $60 per work hour. Required parts would cost approximately $195. Based on these figures, the total cost impact of the proposed AD on U.S. operators is estimated to be $21,780.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2001-SW-52-AD.

Applicability: Model EC120B helicopters, serial numbers 1001 through 1029 inclusive, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated, unless accomplished previously.

To prevent separation of the cyclic pitch stick yokes from the cyclic pitch flight control torque tube (torque tube), loss of cyclic control, and subsequent loss of control of the helicopter, accomplish the following:

(a) Within 50 hours time-in-service (TIS), determine whether each attachment of the bolted assembly of the torque tube (attachment) has a single or double-locking device in accordance with the Accomplishment Instructions, paragraph 2.B.1., of Eurocopter France Alert Service Bulletin No. 67A003, dated August 2, 2001 (ASB).

(1) If the attachment has a double-locking device (a castellated self-locking nut with a cotter pin), no further action is required by this AD.

(2) If the attachment has a single-locking device (castellated nut without a cotter pin or a self-locking nut only), in accordance with the Accomplishment Instructions, paragraph 2.B.1., of the ASB, before further flight:

(i) Torque each nut to 0.4 to 0.5 mdaN (36 to 44 inch-lbs), and

(ii) Apply a slippage mark on the nut and torque tube.

(b) At intervals not to exceed 50 hours TIS, inspect the attachment for movement of the locking device indicated by a misalignment of the slippage mark.

(1) If no movement has occurred, record the inspection.

(2) If movement has occurred, replace, retorque, and reapply the slippage mark to the nut in accordance with the Accomplishment Instructions, paragraph 2.B.2., of the ASB.

(c) Within 250 hours TIS or 12 months, whichever occurs first, modify the torque tube in accordance with the Accomplishment Instructions, paragraph 2.B.3., of the ASB.

(d) Modifying the torque tube in accordance with paragraph (c) of this AD is terminating action for the requirements of this AD.

(e) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(f) Special flight permits may be issued in accordance with 14 CFR 21.197 and 21.199 to operate the helicopter to a location where the requirements of this AD can be accomplished.

Note 3: The subject of this AD is addressed in Direction Generale De L'Aviation Civile, (France) AD 2001-373-008(A), dated August 22, 2001.

Issued in Fort Worth, Texas, on January 29, 2002.
Larry M. Kelly,
Acting Manager, Rotorcraft Directorate, Aircraft Certification Service.

[FR Doc. 02-3580 Filed 2-13-02; 8:45 am]

BILLING CODE 4910-13-U